DEPARTMENT OF HEALTH AND HUMAN SERVICES

Administration for Children and Families

[C.F.D.A. Number: 93.568]

Notice of LIHEAP State Median Income Estimates for FFY 2015

AGENCY: Office of Community Services, ACF, HHS.

ACTION: State Median Income Estimates for a Four-Person Household: Notice of the Federal Fiscal Year (FFY) 2015 State Median Income Estimates for Use in the Low Income Home Energy Assistance Program (LIHEAP).

SUMMARY: The Administration for Children and Families (ACF), Office of Community Services (OCS), Division of Energy Assistance (DEA) announces the estimated median income of four-person households in each state, the District of Columbia, and Puerto Rico for FFY 2015 (October 1, 2014, to September 30, 2015).

DATES: Effective Date: These estimates become effective at any time between the date of this publication and the later of (1) October 1, 2014; or (2) the beginning of a grantee's fiscal year.

FOR FURTHER INFORMATION CONTACT: Peter Edelman, Program Analyst, Office of Community Services, 5th Floor West, 370 L'Enfant Promenade SW., Washington, DC 20447. Telephone: 202-401-5292; Email: peter.edelman@acf.hhs.gov.

SUPPLEMENTARY INFORMATION: This notice announces to grantees of the Low Income Home Energy Assistance Program (LIHEAP) the estimated median income of four-person households in each state, the District of Columbia, and Puerto Rico for FFY 2015 (October 1, 2014, to September 30, 2015). LIHEAP grantees that choose to base their income eligibility criteria on these state median income (SMI) estimates may adopt these estimates (up to 60 percent) on their date of publication in the Federal Register or on a later date as discussed in the “Dates” section. This enables grantees to implement this notice during the period between the heating and cooling seasons. However, by October 1, 2014, or the beginning of the grantee's fiscal year, whichever is later, such grantees must adjust their income eligibility criteria so that they are in accord with the FFY 2015 SMI.

Sixty percent of SMI for each LIHEAP grantee, as annually established by the Secretary of Health and Human Services, is one of the income criteria that LIHEAP grantees may use in determining a household's income eligibility for LIHEAP. The last time LIHEAP was authorized was by the Energy Policy Act of 2005, Public Law 109-58, which was enacted on August 8, 2005. This authorization expired on September 30, 2007, and reauthorization remains pending.

The SMI estimates in this notice are 3-year estimates derived from the American Community Survey (ACS) conducted by the U.S. Census Bureau, U.S. Department of Commerce (Census Bureau).

For additional information about the ACS state median income estimates, including the definition of income and the derivation of medians see http://www.census.gov/acs/www/Downloads/data_documentation/SubjectDefinitions/2012_ACSSubjectDefinitions.pdf under “Income in the Past 12 Months.” For additional information about using the ACS 3-year estimates vs. using the 1-year or 5-year estimates, see http://www.census.gov/acs/www/guidance_for_data_users/estimates/. For additional information about the ACS in general, see http://www.census.gov/acs/www/ or contact the Census Bureau's Social, Economic, and Housing Statistics Division at (301) 763-3243.

These SMI estimates, like those derived from any survey, are subject to two types of errors: (1) Non-sampling Error, which consists of random errors that increase the variability of the data and non-random errors that consistently shift the data in a specific direction; and (2) Sampling Error, which consists of the error that arises from the use of probability sampling to create the sample. For additional information about the accuracy of the ACS SMI estimates, see http://www.census.gov/acs/www/Downloads/data_documentation/Accuracy/MultiyearACSAccuracyofData2012.pdf.

In the state-by-state listing of SMI and 60 percent of SMI for a four-person family for FFY 2015, LIHEAP grantees must regard “family” to be the equivalent of “household” with regards to setting their income eligibility criteria. This listing describes the method for adjusting SMI for households of different sizes, as specified in regulations applicable to LIHEAP (45 CFR 96.85(b)). These regulations were published in the Federal Register on March 3, 1988, (53 FR 6827) and amended on October 15, 1999 (64 FR 55858).

Estimated State Median Income for Four-Person Families, by State, for Federal Fiscal Year (FFY) 2015
[For use in the Low Income Home Energy Assistance Program (LIHEAP)]
States | Estimated state median income for four-person families ¹ | 60 percent of estimated state median income for four-person families ² ³
Alabama | $65,575 | $39,345
Alaska | 89,082 | 53,449
Arizona | 63,560 | 38,136
Arkansas | 58,947 | 35,368
California | 76,804 | 46,082
Colorado | 85,182 | 51,109
Connecticut | 104,214 | 62,528
Delaware | 85,261 | 51,157
District of Columbia | 100,408 | 60,245
Florida | 65,166 | 39,100
Georgia | 67,885 | 40,731
Hawaii | 85,096 | 51,058
Idaho | 62,088 | 37,253
Illinois | 82,114 | 49,268
Indiana | 71,057 | 42,634
Iowa | 76,955 | 46,173
Kansas | 75,582 | 45,349
Kentucky | 67,026 | 40,216
Louisiana | 69,514 | 41,708
Maine | 77,344 | 46,406
Maryland | 106,452 | 63,871
Massachusetts | 104,545 | 62,727
Michigan | 73,991 | 44,395
Minnesota | 89,824 | 53,894
Mississippi | 56,573 | 33,944
Missouri | 71,915 | 43,149
Montana | 69,557 | 41,734
Nebraska | 74,905 | 44,943
Nevada | 65,832 | 39,499
New Hampshire | 97,547 | 58,528
New Jersey | 105,497 | 63,298
New Mexico | 58,215 | 34,929
New York | 84,381 | 50,629
North Carolina | 66,844 | 40,106
North Dakota | 86,170 | 51,702
Ohio | 75,188 | 45,113
Oklahoma | 64,091 | 38,455
Oregon | 68,929 | 41,357
Pennsylvania | 81,802 | 49,081
Rhode Island | 89,587 | 53,752
South Carolina | 63,212 | 37,927
South Dakota | 73,736 | 44,242
Tennessee | 63,997 | 38,398
Texas | 67,757 | 40,654
Utah | 68,036 | 40,822
Vermont | 81,615 | 48,969
Virginia | 91,442 | 54,865
Washington | 83,863 | 50,318
West Virginia | 66,130 | 39,678
Wisconsin | 80,612 | 48,367
Wyoming | 76,526 | 45,916
Puerto Rico | 28,861 | 17,317
¹ These figures were prepared by the U.S. Census Bureau, U.S. Department of Commerce (Census Bureau), from 3-year estimates from the 2010, 2011, and 2012 American Community Surveys (ACSs). These estimates, like those derived from any survey, are subject to two types of error: (1) Non-sampling Error, which consists of random errors that increase the variability of the data and non-random errors that consistently direct the data in a specific direction; and (2) Sampling Error, which consists of the error that arises from the use of probability sampling to create the sample.
² These figures were calculated by the U.S. Department of Health and Human Services, Administration for Children and Families, Office of Community Services, Division of Energy Assistance by multiplying the estimated state median income for a four-person family for each state by 60 percent.
³ To adjust for different sizes of households for LIHEAP purposes, 45 CFR 96.85 calls for multiplying 60 percent of a state's estimated median income for a four-person family by the following percentages: 52 percent for a one-person household, 68 percent for a two-person household, 84 percent for a three-person household, 100 percent for a four-person household, 116 percent for a five-person household, and 132 percent for a six-person household. For each additional household member above six people, 45 CFR 96.85 calls for adding 3 percentage points to the percentage for a six-person household (132 percent) and multiplying the new percentage by 60 percent of the median income for a four-person family.

Note: FFY 2015 covers the period of October 1, 2014, through September 30, 2015. The estimated median income for four-person families living in the United States for this period is $76,365. Grantees that use SMI for LIHEAP may, at their option, employ such estimates at any time between the date of this publication and the later of October 1, 2014 or the beginning of their fiscal year.

Statutory Authority: 45 CFR 96.85(b) and 42 U.S.C. 8624(b)(2)(B)(ii).

Dated: July 15, 2014.
Jeannie L. Chaffin,
Director, Office of Community Services.

[FR Doc. 2014-17063 Filed 7-18-14; 8:45 a.m.]

BILLING CODE 4184-01-P